DEPARTMENT OF LABOR

Employment and Training Administration

[TA-W-37, 612]

AST Research, Inc., Fort Worth, Texas; Dismissal of Application for Reconsideration

Pursuant to 29 CFR 90.18(C) an application for administrative reconsideration was filed with the Director of the Division of Trade Adjustment Assistance for workers at AST Research, Inc., Fort Worth, Texas. The application contained no new substantial information which would bear importantly on the Department's determination. Therefore, dismissal of the application was issued.

TA-W-37, 612; AST Research, Inc., Fort Worth, Texas (July 10, 2000)

Signed at Washington, DC this 12th day of July, 2000.
Grant D. Beale,
Program Manager, Division of Trade Adjustment Assistance.

[FR Doc. 00-18355 Filed 7-19-00; 8:45 am]

BILLING CODE 4510-30-M